SOCIAL SECURITY ADMINISTRATION

[Docket No. SSA-2011-0031]

Occupational Information Development Advisory Panel Meeting

AGENCY: Social Security Administration (SSA).

ACTION: Notice of upcoming quarterly panel meeting.

DATES: May 4, 2011, 8:30 a.m.-5 p.m. (EDT); May 5, 2011, 8:30 a.m.-2 p.m. (EDT)

Location: Radisson Plaza Lord Baltimore.

ADDRESSES: 20 West Baltimore Street, Baltimore, MD 21201.

By Teleconference: 1-866-961-5938.

SUPPLEMENTARY INFORMATION:

Type of meeting: The meeting is open to the public.

Purpose: This discretionary panel, established under the Federal Advisory Committee Act of 1972, as amended, shall report to the Commissioner of Social Security. The panel will advise the agency on the creation of an occupational information system tailored specifically for our disability determination process and adjudicative needs. Advice and recommendations will relate to our disability programs in the following areas: medical and vocational analysis of disability claims; occupational analysis, including definitions, ratings and capture of physical and mental/cognitive demands of work and other occupational information critical to our disability programs; data collection; use of occupational information in our disability programs; and any other area(s) that would enable us to develop an occupational information system suited to its disability programs and improve the medical-vocational adjudication policies and processes.

Agenda: The panel will meet on Wednesday, May 4, 2011, from 8:30 a.m. until 5 p.m. (EDT) and on Thursday, May 5, 2011, from 8:30 a.m. until 2 p.m. (EDT).

The tentative agenda for this meeting includes: Presentations by staff from the Department of Labor's Employment and Training Administration, National Center for O*NET Development and Bureau of Labor Statistics and the U.S. Census Bureau; a presentation on the status of ongoing SSA FY 2011 OIS Development project and research activities currently underway; Occupational Information Development Advisory Panel Chair and subcommittee reports; public comment; panel discussion and deliberation; and, an administrative business meeting. We will post the final agenda on the Internet prior to the meeting at http://www.socialsecurity.gov/oidap.

The panel will hear public comment during the quarterly meeting on Wednesday, May 4, 2011 from 2:45 p.m. to 3:15 p.m. (EDT) and Thursday, May 5, 2011 from 11:45 a.m. to 12:15 pm. (EDT). Members of the public must reserve a time slot—assigned on a first come, first served basis—in order to comment. In the event that scheduled public comment does not take the entire time allotted, the panel may use any remaining time to deliberate or conduct other business.

Those interested in providing testimony in person at the meeting or via teleconference should contact the panel staff by e-mail to OIDAP@ssa.gov. Individuals providing testimony are limited to a maximum five minutes; organizational representatives, a maximum of ten minutes. You may submit written testimony, no longer than five (5) pages, at any time in person or by mail, fax or e-mail to OIDAP@ssa.gov for panel consideration.

Seating is limited. Those needing special accommodation in order to attend or participate in the meeting (e.g., sign language interpretation, assistive listening devices, or materials in alternative formats, such as large print or CD) should notify Debra Tidwell-Peters via e-mail to debra.tidwell-peters@ssa.gov no later than April 18, 2011. We will attempt to accommodate requests made but cannot guarantee availability of services. All meeting locations are barrier free.

For telephone access to the meeting on both days, please dial toll-free to (866) 961-5938.

Contact Information: Records of all public panel proceedings are maintained and available for inspection. Anyone requiring further information should contact the panel staff at: Occupational Information Development Advisory Panel, Social Security Administration, 6401 Security Boulevard, 3-E-26 Operations, Baltimore, MD 21235-0001. Fax: 410-597-0825. E-mail to: OIDAP@ssa.gov. For additional information, please visit the panel Web site at http://www.ssa.gov/oidap.

Debra A. Tidwell,
Designated Federal Officer, Occupational Information Development Advisory Panel.

[FR Doc. 2011-9259 Filed 4-15-11; 8:45 am]

BILLING CODE 4191-02-P